DEPARTMENT OF JUSTICE

[OMB Number 1105-0008]

Agency Information Collection Activities; Proposed eCollection eComments Requested; Controlled Substances Import/Export Declaration

AGENCY: Civil Division, Department of Justice.

ACTION: 30-day notice.

SUMMARY: The Department of Justice (DOJ), Civil Division, will be submitting the following information collection request to the Office of Management and Budget (OMB) for review and approval in accordance with the Paperwork Reduction Act of 1995. The proposed information collection is published to obtain comments from the public and affected agencies. This proposed information collection was previously published in the Federal Register Volume 80, Number 33, page 8900, on February 19, 2015, allowing for a 60-day comment period.

DATES: Comments are encouraged and will be accepted for an additional days until May 27, 2015.

FOR FURTHER INFORMATION CONTACT: Written comments and/or suggestions can also be directed to the Office of Management and Budget, Office of Information and Regulatory Affairs, Attention Department of Justice Desk Officer, Washington, DC 20530 or sent to OIRA_submissions@omb.eop.gov. All comments should reference the 8 digit OMB number for the collection or the title of the collection. If you have questions concerning the collection, please call the Civil Division's Torts Brach at 202-616-4400.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of this information collection:

1. Type of Information Collection: Extension of a currently approved collection.

2. The Title of the Form/Collection: Claim for Damage, Injury, or Death.

3. The agency form number: CIV SF 95. Civil Division, U.S. Department of Justice.

4. Affected public who will be asked or required to respond, as well as a brief abstract:

Primary: Individuals or households.

Other: Business or other for-profit, Not-for-profit institutions, and State, Local, or Tribal Governments.

Abstract: This form is used by those persons making a claim against the United States Government under the Federal Tort Claims Act.

5. An estimate of the total number of respondents and the amount of time estimated for an average respondent to respond: It is estimated that there will be 100,000 respondents who will each require 6 hours to respond.

6. An estimate of the total public burden (in hours) associated with the collection: The total estimated burden hours to complete the certification form is 600,000 hours.

If additional information is required contact: Jerri Murray, Department Clearance Officer, United States Department of Justice, Justice Management Division, Policy and Planning Staff, Two Constitution Square, 145 N Street NE., 3E.405B, Washington, DC 20530.

Dated: April 22, 2015.
Jerri Murray,
Department Clearance Officer for PRA, U.S. Department of Justice.

[FR Doc. 2015-09674 Filed 4-24-15; 8:45 am]

BILLING CODE 4410-12-P